DEPARTMENT OF ENERGY

Federal Energy Regulatory Commission

Combined Notice of Filings #1

Take notice that the Commission received the following electric rate filings:

Docket Numbers: ER11-4363-006.

Applicants: Osage Wind, LLC.

Description: Notice of Non-Material Change in Status of Osage Wind, LLC.

Filed Date: 7/8/15.

Accession Number: 20150708-5217.

Comments Due: 5 p.m. ET 7/29/15.

Docket Numbers: ER11-4498-009; ER11-4499-009; ER14-325-006; ER11-4500-009; ER11-4507-008; ER12-128-007; ER11-4501-010; ER12-979-009; ER12-2542-006; ER12-2448-009; ER13-2409-005; ER14-2858-004

Applicants: Smoky Hills Wind Farm, LLC, Smoky Hills Wind Project II, LLC, Enel Cove Fort, LLC, Enel Stillwater, LLC, Canastota Windpower, LLC, EGP Stillwater Solar, LLC, Caney River Wind Project, LLC, Rocky Ridge Wind Project, LLC, Prairie Rose Wind, LLC, Chisholm View Wind Project, LLC, Buffalo Dunes Wind Project, LLC, Origin Wind Energy, LLC

Description: Notice of Change in Status of Smoky Hills Wind Farm, LLC, et al.

Filed Date: 7/8/15.

Accession Number: 20150708-5213.

Comments Due: 5 p.m. ET 7/29/15.

Docket Numbers: ER15-1728-000.

Applicants: BIF II Safe Harbor Holdings, LLC.

Description: Supplement to May 15, 2015 BIF II Safe Harbor Holdings, LLC tariff filing.

Filed Date: 7/8/15.

Accession Number: 20150708-5015.

Comments Due: 5 p.m. ET 7/29/15.

Docket Numbers: ER15-2132-000.

Applicants: Wisconsin Electric Power Company.

Description: § 205(d) Rate Filing: Wisconsin Electric FERC Electric Tariff Volume 9—2015 to be effective 9/6/2015.

Filed Date: 7/8/15.

Accession Number: 20150708-5182.

Comments Due: 5 p.m. ET 7/29/15.

Docket Numbers: ER15-2133-000.

Applicants: Wisconsin Electric Power Company.

Description: § 205(d) Rate Filing: Wisconsin Electric and WPPI Rate Schedule FERC No. 90—2015 to be effective 9/6/2015.

Filed Date: 7/8/15.

Accession Number: 20150708-5183.

Comments Due: 5 p.m. ET 7/29/15.

Docket Numbers: ER15-2134-000.

Applicants: Sky River Asset Holdings, LLC.

Description: Baseline eTariff Filing: Sky River Asset Holdings, LLC Application for Market-Based Rates to be effective 9/7/2015.

Filed Date: 7/8/15.

Accession Number: 20150708-5184.

Comments Due: 5 p.m. ET 7/29/15.

Docket Numbers: ER15-2135-000.

Applicants: Alexander Wind Farm, LLC.

Description: Baseline eTariff Filing: Alexander Wind Farm Initial Baseline MBR Application Filing to be effective 9/8/2015.

Filed Date: 7/9/15.

Accession Number: 20150709-5088.

Comments Due: 5 p.m. ET 7/30/15.

Docket Numbers: ER15-2136-000.

Applicants: PJM Interconnection, L.L.C., PPL Electric Utilities Corporation.

Description: § 205(d) Rate Filing: PPL Electric submits Coordination Agreement No. 1016 with Borough of Duncannon to be effective 1/1/2014.

Filed Date: 7/9/15.

Accession Number: 20150709-5090.

Comments Due: 5 p.m. ET 7/30/15.

Docket Numbers: ER15-2137-000.

Applicants: PJM Interconnection, L.L.C., PPL Electric Utilities Corporation.

Description: § 205(d) Rate Filing: PPL Electric submits Coordination Agreement No. 1017 with Borough of Ephrata to be effective 1/1/2014.

Filed Date: 7/9/15.

Accession Number: 20150709-5091.

Comments Due: 5 p.m. ET 7/30/15.

Docket Numbers: ER15-2138-000.

Applicants: PJM Interconnection, L.L.C.,PPL Electric Utilities Corporation.

Description: § 205(d) Rate Filing: PPL submits Coordination Agreement No. 1020 with Borough of Leighton to be effective 1/1/2014.

Filed Date: 7/9/15.

Accession Number: 20150709-5092.

Comments Due: 5 p.m. ET 7/30/15.

Docket Numbers: ER15-2139-000.

Applicants: PJM Interconnection, L.L.C., PPL Electric Utilities Corporation.

Description: § 205(d) Rate Filing: PPL submits Coordination Agreement No. 1021 with Borough of Mifflinburg to be effective 1/1/2014.

Filed Date: 7/9/15.

Accession Number: 20150709-5097.

Comments Due: 5 p.m. ET 7/30/15.

Docket Numbers: ER15-2140-000.

Applicants: PJM Interconnection, L.L.C., PPL Electric Utilities Corporation.

Description: § 205(d) Rate Filing: PPL submits Coordination Agreement No. 1023 with Borough of Perkasie to be effective 1/1/2014.

Filed Date: 7/9/15.

Accession Number: 20150709-5099.

Comments Due: 5 p.m. ET 7/30/15.

Docket Numbers: ER15-2141-000.

Applicants: PJM Interconnection, L.L.C., PPL Electric Utilities Corporation.

Description: § 205(d) Rate Filing: PPL submits Coordination Agreement No. 1025 with Borough of Schuylkill Haven to be effective 1/1/2014.

Filed Date: 7/9/15.

Accession Number: 20150709-5101.

Comments Due: 5 p.m. ET 7/30/15.

Docket Numbers: ER15-2142-000.

Applicants: PJM Interconnection, L.L.C., PPL Electric Utilities Corporation.

Description: § 205(d) Rate Filing: PPL submits Coordination Agreement No. 1026 with Borough of St. Clair to be effective 1/1/2014.

Filed Date: 7/9/15.

Accession Number: 20150709-5104.

Comments Due: 5 p.m. ET 7/30/15.

Docket Numbers: ER15-2143-000.

Applicants: PJM Interconnection, L.L.C., PPL Electric Utilities Corporation.

Description: § 205(d) Rate Filing: PPL submits Coordination Agreement No. 1028 with Borough of Weatherly to be effective 1/1/2014.

Filed Date: 7/9/15.

Accession Number: 20150709-5111.

Comments Due: 5 p.m. ET 7/30/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2015.
Nathaniel J. Davis, Sr.,
Deputy Secretary.

[FR Doc. 2015-17351 Filed 7-14-15; 8:45 am]

BILLING CODE 6717-01-P